DEPARTMENT OF TRANSPORTATION

Surface Transportation Board

[STB Finance Docket No. 34264]

Connotton Valley Railway, Inc.—Lease and Operation Exemption—Wheeling & Lake Erie Railway Company

Connotton Valley Railway, Inc. (CVR), a noncarrier, has filed a verified notice of exemption under 49 CFR 1150.31 to lease and operate, pursuant to an agreement with Wheeling & Lake Erie Railway Company (W&LE), approximately 10.4 miles of rail line. The line extends from milepost 5.1 in Cleveland, OH, to milepost 15.5 at Falls Junction, in Glenwillow, OH (including access to the yard at Falls Junction and all existing siding and run-around tracks within and between said points). CVR certifies that its projected annual revenues as a result of this transaction will not exceed those that would qualify it as a Class III rail carrier, and further certifies that its projected annual revenues will not exceed $5 million.

The parties report that they intend to consummate the transaction on or after the effective date of the exemption. The earliest the transaction could have been consummated was October 15, 2002 (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34264, must be filed with the Surface Transportation Board, 1925 K Street, NW., Washington, DC 20423-0001. In addition, one copy of each pleading must be served on Barbara Williams, 14 South Main Street, PO Box 261, West Salem, OH 44287.

Board decisions and notices are available on our Web site at http://www.stb.dot.gov.

Decided: October 30, 2002.
By the Board, David M. Konschnik, Director, Office of Proceedings.
Vernon A. Williams,
Secretary.

[FR Doc. 02-28072 Filed 11-6-02; 8:45 am]

BILLING CODE 4915-00-P